DEPARTMENT OF TRANSPORTATION

Federal Aviation Administration

14 CFR Part 39

[Docket No. FAA-2012-0601; Directorate Identifier 2008-SW-033-AD]

RIN 2120-AA64

Airworthiness Directives; Bell Helicopter Textron, Inc. Helicopters

AGENCY: Federal Aviation Administration (FAA), DOT.

ACTION: Notice of proposed rulemaking (NPRM).

SUMMARY: We propose to adopt a new airworthiness directive (AD) for the Bell Helicopter Textron, Inc. (BHTI) Model 205A, 205A-1, and 205B helicopters with certain starter/generator power cable assemblies (power cable assemblies). This proposed AD is prompted by the determination that the power cable assembly connector (connector) can deteriorate, causing a short in the connector that may lead to a fire. This AD would require replacing the power cable assemblies and their associated parts, and performing continuity readings. We are proposing this AD to prevent a short in the connector that may lead to a fire in the starter/generator, smoke in the cockpit that reduces visibility, and subsequent loss of helicopter control.

DATES: We must receive comments on this proposed AD by August 13, 2012.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact Bell Helicopter Textron, Inc., P.O. Box 482, Fort Worth, TX 76101; telephone (817) 280-3391; fax (817) 280-6466; or at http://www.bellcustomer.com/files/. You may review the referenced service information at the FAA, Office of the Regional Counsel, Southwest Region, 2601 Meacham Blvd., Room 663, Fort Worth, Texas 76137.

FOR FURTHER INFORMATION CONTACT: Andy Shaw, Aviation Safety Engineer, Safety Management Group, Rotorcraft Directorate, FAA, 2601 Meacham Blvd., Fort Worth, TX 76137; telephone (817) 222-5110; email andy.shaw@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

We propose to adopt a new AD for the BHTI Model 205A, 205A-1, and 205B helicopters with power cable assemblies, part number (P/N) 205-075-902-017 and P/N 205-075-911-007. The AD would require replacing the power cable assemblies with airworthy power cable assemblies, P/N 205-075-265-103 and 205-075-265-105S, and replacing associated parts included in the starter/generator cable kit, P/N CT205-07-94-1. After the power cable assemblies and associated parts are replaced, the AD would require performing a continuity test at the power cable connections using a multimeter. This proposal is prompted by the determination that the connector can deteriorate, causing a short in the connector P81 (J81) pins. This condition, if not corrected, could result in a fire in the starter/generator, smoke in the cockpit that could reduce visibility, and subsequent loss of structural integrity and helicopter control.

FAA's Determination

We are proposing this AD because we evaluated all known relevant information and determined that an unsafe condition exists and is likely to exist or develop on other products of these same type designs.

Related Service Information

We have reviewed BHTI Alert Service Bulletin (ASB) No. 205-07-94, Revision A, dated December 8, 2008, for Model 205A and 205A-1 helicopters; and BHTI ASB No. 205B-08-50, dated December 8, 2008, for the Model 205B helicopter. These ASBs describe procedures for replacing the power cable assemblies and associated parts. The ASBs specify that operators can obtain a starter/generator cable kit that contains the required replacement parts.

Proposed AD Requirements

This proposed AD would require, within six months, replacing the power cable assemblies and associated parts with airworthy parts contained in the starter/generator kit, and performing a continuity test using a multimeter. The actions would be required to be accomplished by following specified portions of the ASBs described previously.

Costs of Compliance

We estimate that this proposed AD would affect 31 helicopters of U.S. registry. The proposed actions would take about 10 work-hours per helicopter to accomplish at an average labor rate of $85 per work hour. Required parts would cost about $12,654 for the power cable assembly replacement kit. Based on these figures, the cost of the proposed AD on U.S. operators would be $13,504 per helicopter, or $418,624 for the fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new Airworthiness Directive (AD):

Bell Helicopter Textron, Inc. (BHTI): Docket No. FAA-2012-0601; Directorate Identifier 2008-SW-033-AD.

(a) Applicability

This AD applies to BHTI Model 205A, 205A-1, and 205B helicopters with starter/generator power cable assemblies (power cable assemblies), part numbers (P/N) 205-075-902-017 and P/N 205-075-911-007 installed, certificated in any category.

(b) Unsafe Condition

This AD was prompted by the determination that the power cable assembly connector (connector) can deteriorate, causing a short in the connector that may lead to a fire. We are issuing this AD to prevent a short in the connector that may lead to a fire in the starter/generator, smoke in the cockpit that reduces visibility, and subsequent loss of helicopter control.

(c) Compliance

You are responsible for performing each action required by this AD within the specified compliance time unless it has already been accomplished prior to that time.

(d) Required Actions

Within six months, replace the power cable assemblies using the parts contained in starter/generator kit P/N CT205-07-94-1, perform a continuity test, and connect wires to the starter generator as follows:

(1) For Model 205A and 205A-1 helicopters, follow the Accomplishment Instructions, paragraphs 2 through 16(c), of BHTI Alert Service Bulletin No. 205-07-94, Revision A, dated December 8, 2008.

(2) For the Model 205B helicopters, follow the Accomplishment Instructions, paragraphs 2 through 16(c), of BHTI Alert Service Bulletin No. 205B-08-50, dated December 8, 2008.

(e) Alternative Methods of Compliance (AMOC)

(1) The Manager, Safety Management Group, FAA, may approve AMOCs for this AD. Send your proposal to: Andy Shaw, Aviation Safety Engineer, Safety Management Group, Rotorcraft Directorate, FAA, 2601 Meacham Blvd., Fort Worth, TX 76137; telephone (817) 222-5110; email andy.shaw@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(f) Additional Information

For service information identified in this AD, contact Bell Helicopter Textron, Inc., P.O. Box 482, Fort Worth, TX 76101; telephone (817) 280-3391; fax (817) 280-6466; or at http://www.bellcustomer.com/files/. You may review the information at the FAA, Office of the Regional Counsel, Southwest Region, 2601 Meacham Blvd., Room 663, Fort Worth, Texas 76137.

(g) Subject

Joint Aircraft Service Component (JASC) Code: 2497, electrical power system wiring.

Issued in Fort Worth, Texas, on May 25, 2012.
Lance T. Gant,
Acting Manager, Rotorcraft Directorate, Aircraft Certification Service.

[FR Doc. 2012-14401 Filed 6-12-12; 8:45 am]

BILLING CODE 4910-13-P